DEPARTMENT OF HEALTH AND HUMAN SERVICES

Centers for Disease Control and Prevention

Meeting of the Community Preventive Services Task Force (Task Force)

AGENCY: Centers for Disease Control and Prevention (CDC), Department of Health and Human Services (HHS).

ACTION: Notice of meeting.

SUMMARY: The Centers for Disease Control and Prevention (CDC) announces the next meeting of the Community Preventive Services Task Force (Task Force). The Task Force is independent and nonfederal. Its members are nationally known leaders in public health practice, policy, and research, and are appointed by the CDC Director. The Task Force was convened in 1996 by the Department of Health and Human Services (HHS) to assess the effectiveness of community, environmental, population, and healthcare system interventions in public health and health promotion. During this meeting, the Task Force will consider the findings of systematic reviews and issue findings and recommendations to help inform decision making about policy, practice, and research in a wide range of U.S. settings. The Task Force's recommendations, along with the systematic reviews of the scientific evidence on which they are based, are compiled in the Guide to Community Preventive Services (Community Guide).

DATES: The meeting will be held on Wednesday, June 19, 2013 from 8:30 a.m. to 5:30 p.m., EDT and Thursday, June 20, 2013 from 8:30 a.m. to 1:00 p.m. EDT.

Logistics: The Task Force Meeting will be held at the Emory Conference Center at 1615 Clifton Road Atlanta, GA 30329. Information regarding logistics will be available Wednesday, May 22, 2013 on the Community Guide Web site (www.thecommunityguide.org).

FOR FURTHER INFORMATION CONTACT: Andrea Baeder, The Community Guide Branch, Epidemiology and Analysis Program Office, Office of Surveillance, Epidemiology, and Laboratory Services, Centers for Disease Control and Prevention, 1600 Clifton Road, MS-E-69, Atlanta, Georgia 30333, phone: (404) 498-6876, email: CPSTF@cdc.gov.

Purpose: The purpose of the meeting is for the Task Force to consider the findings of systematic reviews and issue findings and recommendations to help inform decision making about policy, practice, and research in a wide range of U.S. settings.

Matters to be discussed: Matters to be discussed: cancer prevention and control, cardiovascular disease prevention and control, diabetes prevention and control, motor vehicle-related injury prevention, improving oral health, promoting physical activity, promoting health equity, and reducing tobacco use and secondhand smoke exposure.

Meeting Accessibility: This meeting is open to the public, limited only by space availability.

Dated: May 6, 2013.
Tanja Popovic,
Deputy Associate Director for Science, Centers for Disease Control and Prevention.

[FR Doc. 2013-11242 Filed 5-10-13; 8:45 am]

BILLING CODE 4163-18-P